DEPARTMENT OF AGRICULTURE

Rural Utilities Service

7 CFR Part 1738

Rural Broadband Access Loans and Loan Guarantees

AGENCY: Rural Utilities Service, USDA.

ACTION: Final rule; technical correction.

SUMMARY: The Rural Utilities Service (RUS) published in the Federal Register on Thursday, January 30, 2003, at 68 FR 4684, a rule amending its regulations in order to establish the Rural Broadband Access Loan and Loan Guarantee Program as authorized by the Farm Security and Rural Investment Act of 2002 (Pub. L. 101-171) (2002 Act). Section 6103 of the Farm Security and Rural Investment Act of 2002 amended the Rural Electrification Act of 1936, as amended (RE Act), to add Title VI, Rural Broadband Access, to provide loans and loan guarantees to fund the cost of construction, improvement, or acquisition of facilities and equipment for the provision of broadband service in eligible rural communities. This document makes a technical correction to the final rule.

DATES: Effective January 30, 2003.

FOR FURTHER INFORMATION CONTACT: Roberta D. Purcell, Assistant Administrator, Telecommunications Program, Rural Utilities Service, U.S. Department of Agriculture, 1400 Independence Avenue, SW., STOP 1590, Room 4056, Washington, DC 20250-1590. Telephone number (202) 720-9554, Facsimile (202) 720-0810.

SUPPLEMENTARY INFORMATION: In FR Doc. 03-2199, published on January 30, 2003, at 68 FR 4684, make the following correction:

§ 1738.10 [Corrected]

1. On page 4688, in column one, in the fourth line of § 1738.10(b), in the fourth line, remove “telecommunications loan made under”, and add, “telecommunications loan made or guaranteed under” in its place.

Dated: February 14, 2003.
Hilda Gay Legg,
Administrator, Rural Utilities Services.

[FR Doc. 03-4563 Filed 2-26-03; 8:45 am]

BILLING CODE 3410-15-P